DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2007 National Survey of Mental Health Treatment Facilities (NSMHTF) (OMB No. 0930-0119)—Revision

The Substance Abuse and Mental Health Services Administration's (SAMHSA) Center for Mental Health Services (CMHS) will conduct a 2007 NSMHTF. This national survey represents a re-design of the biennial Survey of Mental Health Organizations (SMHO) last conducted in 2004 under OMB No. 0930-0119. Instead of surveying each mental health organization as a whole, the 2007 NSMHTF will survey all of the mental health treatment locations. These separate mental health service locations are called facilities, in contrast to mental health organizations, which may include multiple facilities (service locations). This survey will be (a) a 100 percent enumeration of all known mental health treatment facilities nationwide, (b) more consumer-oriented in describing services available at each facility location, and (c) patterned after SAMHSA's Office of Applied Studies National Survey of Substance Abuse Treatment Services (OMB No. 0930-0106).

The 2007 NSMHTF will utilize one questionnaire for all mental health treatment facility types including hospitals, residential treatment centers and outpatient clinics. The information collected will include intake telephone numbers for services, types of services offered and acceptable forms of payment, emergency hotline numbers, facility caseload, and facility bed counts, if applicable. All treatment facilities will be contacted by telephone prior to the mailing to verify their eligibility, and facility type.

The resulting database will be used to provide both state and national estimates of facility types and their patient caseloads. Information from the 2007 survey will also be used to update the National Mental Health Information Center's facility locator for consumers. In addition, data derived from the survey will be published by CMHS in Data Highlights, in Mental Health, United States, and in professional journals such as Psychiatric Services and the American Journal of Psychiatry. The publication Mental Health, United States is used by the general public, State governments, the U.S. Congress, university researchers, and other health care professionals. The following Table summarizes the estimated response burden for the survey.

Estimated Total Response Burden for the 2007 NSMHTF
Facility type | Number of respondents | Responses per respondent | Average hours per response | Total hour burden
Public psychiatric hospitals | 502 | 1 | 1 | 502
Private Psychiatric Hospitals | 557 | 1 | 1 | 557
General Hospitals | 1,599 | 1 | 1 | 1,599
Residential Treatment Centers for SED | 1,456 | 1 | 1 | 1,456
Outpatient Clinics | 3.493 | 1 | 1 | 3,493
Multi-Setting Facilities | 5,264 | 1 | 1 | 5,264
Total Facilities | 12,871 | 1 | 1 | 12,871

Send comments to Summer King, SAMHSA Reports Clearance Officer, Room 7-1044, One Choke Cherry Road, Rockville, MD 20857. Written comments should be received within 60 days of this notice.

Dated: May 31, 2007.
Elaine Parry,
Acting Director, Office of Program Services.

[FR Doc. E7-11092 Filed 6-7-07; 8:45 am]

BILLING CODE 4162-20-P